INTERNATIONAL TRADE COMMISSION

[Investigation No. 337-TA-1261]

Certain LED Landscape Lighting Devices and Components Thereof; Commission Determination Not to Review an Initial Determination Terminating the Investigation as to Shenzhen Wanjia Lighting Co., Ltd. d/b/a Wonka Based on a Consent Order; Issuance of a Consent Order; Request for Written Submissions on Remedy, the Public Interest, and Bonding With Respect to the Defaulted Respondents

AGENCY: U.S. International Trade Commission.

ACTION: Notice.

SUMMARY: Notice is hereby given that the U.S. International Trade Commission has determined not to review an initial determination (“ID”) (Order No. 23) of the presiding administrative law judge (“ALJ”) granting a joint, unopposed motion to terminate Shenzhen Wanjia Lighting Co., Ltd. d/b/a WONKA of Shenzhen, China (“WONKA”) based on a consent order. WONKA is terminated from the investigation. The Commission has issued a consent order to WONKA. The Commission requests written submissions from the parties, interested government agencies, and other interested persons on the issues of remedy, the public interest, and bonding, under the schedule set forth below.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on April 13, 2021, based on a complaint, as supplemented, filed on behalf of Wangs Alliance Corporation, d/b/a WAC Lighting (“WAC”). 86 FR 19282 (Apr. 13, 2021). The complaint alleged a violation of section 337 of the Tariff Act of 1930, as amended, 19 U.S.C. 1337, based upon the importation into the United States, the sale for importation, and the sale within the United States after importation of certain LED landscape lighting devices and components thereof by reason of infringement of certain claims of U.S. Patent Nos. 10,571,101 and 10,920,971. Id. The complaint further alleged that an industry in the United States exists as required by section 337. Id. The Commission named seven respondents: WONKA; cBright Lighting, Inc. of San Leandro, California (“cBright”); Dauer Manufacturing Corp. of Medley, Florida (“Dauer”); FUSA Corp. of Medley, Florida (“FUSA”); CAST Lighting LLC of Hawthorne, New Jersey (“CAST”); Lumien Enterprise, Inc. d/b/a Lumien Lighting of Acworth, Georgia (“Lumien”); and Jiangsu Sur Lighting Co., Ltd. of Jiangsu Province, China (with Lumien, the “Lumien Respondents”). Id. The Office of Unfair Import Investigations is not named as a party in this investigation. Id.

This investigation has been terminated as to the Lumien Respondents and CAST; and cBright, Dauer, and FUSA have been found to be in default. Order No. 13 (July 9, 2021), unreviewed by Notice (July 29, 2021); Order No. 14 (Aug. 4, 2021), unreviewed by Notice (Aug. 18, 2021); Order No. 20 (Sept. 10, 2021), unreviewed by Notice (Oct. 6, 2021); Order No. 22 (Sept. 24, 2021), unreviewed by Notice (Oct. 14, 2021).

On September 21, 2021, WAC and WONKA filed a joint, unopposed motion to terminate this investigation with respect to WONKA based on a consent order stipulation and a proposed consent order.

On September 24, 2021, the ALJ issued Order No. 23, the subject ID, which grants the motion. The subject ID found that the joint motion, consent order stipulation, and proposed consent order satisfy the requirements of Commission Rule 210.21, paragraphs (c)(3) and (c)(4) (19 CFR 210.21(c)(3), (c)(4)). The ID also found that termination of WONKA would not be contrary to the public interest.

The Commission has determined not to review the subject ID. WONKA is terminated from the investigation. The Commission has issued a consent order to WONKA.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and cease and desist orders would have on: (1) The public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: The complainant to the investigation, interested government agencies, and any other interested parties are encouraged to file written submissions on the issues of remedy, the public interest, and bonding.

In their initial submissions, Complainant is also requested to identify the remedy sought and to submit proposed remedial orders for the Commission's consideration. Complainant is further requested to state the dates that the Asserted Patents expire, to provide the HTSUS subheadings under which the accused products are imported, and to supply the identification information for all known importers of the products at issue in this investigation. The initial written submissions and proposed remedial orders must be filed no later than close of business on November 9, 2021. Reply submissions must be filed no later than the close of business on November 16, 2021. No further submissions on any of these issues will be permitted unless otherwise ordered by the Commission.

Persons filing written submissions must file the original document electronically on or before the deadlines stated above. The Commission's paper filing requirements in 19 CFR 210.4(f) are currently waived. 85 FR 15798 (March 19, 2020). Submissions should refer to the investigation number (Inv. No. 337-TA-1261) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. A redacted non-confidential version of the document must also be filed simultaneously with any confidential filing. All information, including confidential business information and documents for which confidential treatment is properly sought, submitted to the Commission for purposes of this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on October 26, 2021.

The authority for the Commission's determination is contained in section 337 of the Tariff Act of 1930, as amended (19 U.S.C. 1337), and in Part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).

By order of the Commission.
Issued: October 26, 2021.
Lisa Barton,
Secretary to the Commission.

[FR Doc. 2021-23632 Filed 10-28-21; 8:45 am]

BILLING CODE 7020-02-P